DEPARTMENT OF THE INTERIOR

Bureau of Indian Affairs

25 CFR Chapter 1

No Child Left Behind Negotiated Rulemaking Committee

AGENCY: Bureau of Indian Affairs, Interior.

ACTION: Replacement of Federal representative.

SUMMARY: The Secretary of the Interior has appointed Lisa Lance as a Federal representative for the No Child Left Behind Negotiated Rulemaking Committee, replacing Michael Rossetti. Ms. Lance will serve for the remainder of the Committee's duration. Ms. Lance is an attorney-advisor in the Office of the Solicitor, Department of the Interior.

FOR FURTHER INFORMATION CONTACT: Catherine Freels, Designated Federal Official, No Child Left Behind Negotiated Rulemaking Project Management Office, P.O. Box 1430, Albuquerque, NM 87103-1430; telephone (505) 248-7240 or fax (505) 248-7242.

SUPPLEMENTARY INFORMATION: For information on negotiated rulemaking under the No Child Left Behind Act, see the Federal Register notices published on December 10, 2002 (67 FR 75828) and May 5, 2003 (68 FR 23631) or the Web site at http://www.oiep.bia.edu under “Negotiated Rulemaking.”

Dated: June 22, 2004.
David W. Anderson,
Assistant Secretary—Indian Affairs.

[FR Doc. 04-15006 Filed 6-30-04; 8:45 am]

BILLING CODE 4310-6W-M